DEPARTMENT OF HEALTH AND HUMAN SERVICES

Administration for Children and Families

Submission for Office of Management and Budget Review; Risk Determination Hearings for Unaccompanied Children (New Collection)

AGENCY: Office of Refugee Resettlement; Administration for Children and Families; U.S. Department of Health and Human Services.

ACTION: Request for Public Comments.

SUMMARY: The Office of Refugee Resettlement (ORR), Administration for Children and Families (ACF), U.S. Department of Health and Human Services (HHS), is requesting approval from the Office of Management and Budget (OMB) and inviting public comments on the proposed information collection. The request consists of several forms that will allow the Unaccompanied Children (UC) Program to implement a new set of hearings (“Risk Determination hearings”), which will serve as due process protections for children in ORR care.

DATES: Comments due within 30 days of publication. OMB is required to make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ORR plans to create a new information collection containing five instruments in order to implement the new risk determination hearings for unaccompanied children. This new information collection will replace the Flores bond hearing process. The new instruments will not take effect until the underlying regulations at 45 CFR part 410 on which they are based take effect. The UC Program issued a notice of proposed rulemaking in October 2023, which aims to adopt and replace regulations relating to key aspects of the placement, care, and services provided to unaccompanied children referred to ORR. The UC Program has adjudicated public comments received and has announced its intention to publish the Final Rule on April 30th, 2024; the Final Rule will take effect 60 days after publishing.

Risk Determination Hearing Forms: These forms are provided to unaccompanied children placed in ORR custody by their case manager or by individuals associated with the HHS Departmental Appeals Board (DAB), which is responsible for the actual day-to-day logistical operations of these hearings. These instruments are provided to unaccompanied children placed in a restrictive setting (heightened supervision facilities and residential treatment center facilities) upon a finding by ORR that a child would present a danger to the community if released, and to unaccompanied children placed in other types of facilities upon request. They will be translated into Spanish and other languages, as needed.

• Request for Risk Determination Hearing (Form RDH-1): The unaccompanied child, the child's parent/legal guardian, or the child's representative may use this instrument to request a Risk Determination Hearing.

• Risk Determination Hearing Opt-Out (Form RDH-2): The unaccompanied child or the child's representative may use this instrument to opt-out of a Risk Determination Hearing.

• Appointment of Representation for Risk Determination Hearing (Form RDH-3): The unaccompanied child or the child's parent/legal guardian may use this instrument to appoint a representative to act on the child's behalf throughout the Risk Determination Hearing process and consent to the release of any records that are related to the child's case to that representative.

• Risk Determination Hearing Transcript Request (Form RDH-4): The unaccompanied child, the child's parent/legal guardian, or the child's representative may use this instrument to request a written transcript of the Risk Determination Hearing.

• Request for Appeal of Risk Determination Hearing (Form RDH-5): The unaccompanied child, the child's parent/legal guardian, or the child's representative may use this instrument to appeal the decision of the hearing officer.

Once the new Risk Determination Hearing forms are in effect, the UC Program will prepare a non-substantive change request to the Office of Management and Budget (OMB) to discontinue the use of three instruments currently approved under the Legal Services for Unaccompanied Children information collection (OMB# 0970-0565). The forms to be replaced by the Risk Determination Hearing forms include the following:

• Request for a Flores Bond Hearing (Form LRG-7)

• Motion Requesting a Bond Hearing—Secure or Staff Secure (Form LRG-8A)

• Motion Requesting a Bond Hearing—Non-Secure (Form LRG-8B)

Respondents: ORR grantee and contractor staff, unaccompanied children, parents/legal guardians of unaccompanied children, attorneys of record, and legal service providers.

Annual Burden Estimates
Instrument | Annual number of respondents | Total number of responses per respondent | Average burden hours per response | Annual total burden hours
Request for Risk Determination Hearing (Form RDH-1) | 250 | 1 | 0.17 | 42.5
Risk Determination Hearing Opt-Out (Form RDH-2) | 250 | 1 | 0.17 | 42.5
Appointment of Representative for Risk Determination Hearing (Form RDH-3) | 1000 | 1 | 0.17 | 170
Risk Determination Hearing Transcript Request (Form RDH-4) | 16 | 1 | 0.17 | 2.7
Request for Appeal of Risk Determination Hearing (Form RDH-5) | 3 | 1 | 0.17 | .5

Estimated Total Annual Burden Hours: 258.2.

Authority: 6 U.S.C. 279; 8 U.S.C. 1232

Mary C. Jones,
ACF/OPRE Certifying Officer.

[FR Doc. 2024-10188 Filed 5-9-24; 8:45 am]

BILLING CODE 4184-45-P